DEPARTMENT OF HEALTH AND HUMAN SERVICES

Office of Public Health and Science

Announcement of Availability of Grants for Adolescent Family Life Demonstration Projects

AGENCY: Office of Adolescent Pregnancy Programs, Office of Population Affairs, OPHS, HHS.

ACTION: Notice.

SUMMARY: The Office of Adolescent Pregnancy Programs (OAPP) requests applications for care demonstration grants under the Adolescent Family Life (AFL) Demonstration Projects Program. These Title XX grants are for community-based and community-supported demonstration projects to establish comprehensive and integrated approaches to the delivery of care services to pregnant adolescents, adolescent parents, their children, their extended family members, and their male partners.

Funds will be available for approximately 15-20 care demonstration projects, which may be located in any State, the District of Columbia, and United States territories, commonwealths and possessions.

DATES: The closing date for this grant announcement is May 30, 2000. Applications will be considered as meeting the deadline if they are postmarked on or before the closing date. A legibly dated receipt from a commercial carrier or U.S. Postal Service will be accepted in lieu of a postmark. Private metered postmarks will not be accepted as proof of timely mailing. All hand delivered applications must be received between the hours of 8:30 am and 5:00 pm on or before the above closing date. Applicants which do not meet the deadline will be considered late applications and will be returned to the applicant. Applications will not be accepted by fax or e-mail. The submission deadline will not be extended.

ADDRESSES: Application kits consisting of the appropriate forms, a copy of the Title XX legislation, and guidance on the preparation of the application may be downloaded from the following INTERNET address: www.dhhs.gov/progorg/opa. If you do not have access to the INTERNET, you may obtain a kit from the Grants Management Office, Office of Populations Affairs, 4350 East-West Highway, Suite 200, Bethesda, MD 20814. Written requests for application kits may be faxed to (301) 594-5981. All completed applications must be submitted to the Grants Management Office at the above mailing address. In preparing the application, it is important to follow ALL instructions contained in the application kit.

FOR FURTHER INFORMATION CONTACT: The OAPP Program Office at (301) 594-4004. Staff is available to answer questions and provide limited technical assistance in the preparation of grant applications.

SUPPLEMENTARY INFORMATION: Title XX of the Public Health Service Act, 42 U.S.C. 300z. et seq., authorizes the Secretary of Health and Human Services to award grants for demonstration projects to provide services to pregnant and nonpregnant adolescents, adolescent, parents and their families. (Catalog of Federal Domestic Assistance Number 93.995) Title XX authorizes grants for three types of demonstration projects: (1) Projects which provide “care services” only (i.e., services for the provision of care to pregnant adolescents, adolescent parents and their families); (2) projects which provide “prevention services” only (i.e., services to prevent adolescent sexual relations); and (3) projects which provide a combination of care and prevention services.

Under this program announcement, OAPP intends to make available approximately $4 million to support an estimated 15-20 new care demonstration projects. The awards for care projects will range from $250,000 to $350,000.

Grants may be approved for project periods of up to five years. Grants are funded in annual increments (budget periods). Funding for all approved budget periods beyond the first year of the grant is contingent upon the availability of funds, satisfactory progress of the project, and adequate stewardship for Federal funds. A grant award may not exceed 70 percent of the total costs of the project for the first and second years, 60 percent of the total costs for the third year, 50 percent for the fourth year and 40 percent for the fifth year. The non-Federal share of the project costs may be provided in cash expenditures or fairly evaluated in-kind contributions, including facilities, equipment and services.

Applications are encouraged from experienced organizations which are currently operating programs and which have the capability of expanding and enhancing these services to serve significant numbers of adolescents according to the guidelines specified in this announcement.

The specific services which may be funded under Title XX are listed below under the heading entitled CARE SERVICES.

The following application requirements contain information collections subject to OMB approval under Paperwork Reduction Act of 1995 (Pub. L. 104-13). These information collections have been approved by OMB under control number 0937-0198.

Eligible Applicants

Any public or private nonprofit organization or agency is eligible to apply for a grant. Grants are awarded only to those organizations or agencies which are determined to demonstrate the capability of providing the proposed services and meet the statutory requirements.

Youth Development Approach

Socio-economic factors such as poverty, substandard housing, violence within a community, racial disparities, and gender inequality all contribute to early sexual activity and pregnancy. An adolescent's ability to plan for their future is hampered not only by their family's inability to meet basic needs, but also by the societal disparities that create unequal access to enrichment programs, job opportunities, support groups and mental health care, etc.

Adolescent health experts, public health officials, sociologists, and the medical community have long agreed that to effectively prevent secondary adolescent pregnancy among youth, Federal, state and local level programs must include multiple and complementary approaches to teen pregnancy prevention.

A more holistic approach to preventing secondary teen pregnancies is often termed “youth development.” It has been documented that successful youth development projects are those where adolescents themselves are an integral part of the design, implementation, and evaluation phases over the life of the project. Adolescents need to see hope for a future, acquire the skills necessary to turn hopes into reality, and be provided with an array of opportunities to get them to that reality.

The OAPP encourages applicants to take a youth development approach that works to address the societal disparities that contribute to repeat adolescent pregnancy and poor health outcomes for young mothers, their children, fathers and extended families. In addition, the OAPP encourages applicants to provide opportunities for improving the adolescents' senses of self through cultural understanding, sports and recreation,visual and performing arts, and other activities that build an adolescent's sense of self-worth and self-efficacy. All services provided by AFL grantees, however, including all activities that are part of a youth development approach, must be within the scope of the Title XX care services listed below.

Care Services

Under this announcement, funds are available for local care demonstrations only. The project site must be identified in the application rather than selected after the grant is awarded.

Under the statute the purpose of care programs is to establish innovative, comprehensive, and integrated approaches to the delivery of care services for pregnant adolescents and adolescent parents under 19 years of age at program entry, with primary emphasis on unmarried adolescents who are 17 years old or younger and for their families. This includes young fathers and their families.

The OAPP encourages the submission of care applications which propose to do the following: (1) Add care services to supplement existing adolescent health services in school, hospital or other community settings, (2) provide care services to minority or other disadvantaged populations, (3) continue services to clients after the delivery of the baby to enable them to acquire good parenting skills and to ensure that their children are developing normally physically, intellectually and emotionally, (4) stress self-sufficiency skills, such as school completion (in mainstream or alternative schools and GED programs) and/or job training preparation and placement, (5) involve males and promote male responsibility, and (6) provide STD and HIV prevention counseling. Applicants should base their approaches upon an assessment of existing programs and, where appropriate, upon efforts to establish better coordination, integration and linkages among such existing programs.

Applicants for care projects are required to provide, either directly or by referral, the following 10 core services:

(1) Pregnancy testing and maternity counseling:

(2) Adoption counseling and referral services which present adoption as an option for pregnant adolescents, including referral to licensed adoption agencies in the

(3) Primary and preventive health services, including prenatal and postnatal care;

(4) Nutrition information and counseling;

(5) Referral for screening and treatment of STDs, including HIV/AIDS;

(6) Referral to appropriate pediatric care;

(7) Educational services relating to family life and problems associated with adolescent premarital sexual relations including:

(a) Information about adoption;

(b) Education on the responsibilities of sexuality and parenting;

(c) The development of material to support the role of partents as the providers of sex education; and

(d) Assistance to parents, schools, youth agencies and health providers to educate adolescents and preadolescents concerning self-discipline and responsibility in human sexuality;

(8) Appropriate education and vocational services;

(9) Mental health services and referral to mental health services and to other appropriate physical health services; and

(10) Counseling and referral for family services.

Note: Funds provided under Title XX may not be used for the provision of family planning services other than counseling and referral services unless appropriate family planning services are not otherwise available in the community. In accordance with section, 2006(a)(17) of the Title XX (42 U.S.C. 300z-5(a)917)), applicants must make maximum use of services 2006(a)(17) of Title XX (42 U.S.C. 300z-5(a)(17)), applicants must make maximum use of services available under the Title X Family Planning Program in providing this required core service.

In addition to the 10 required core services listed above, applicants for care projects may provide any of the following supplemental services:

(1) Referral to licensed residential care of maternity home services;

(2) Child care sufficient to enable the adolescent parent to continue education or to enter into employment;

(3) Consumer education;

(4) Counseling for the immediate and extended family members of the eligible person;

(5) Transportation; and

(6) Outreach services to families of adolescents to discourage sexual relations among unemancipated minors.

Evaluation

Section 2006(b)(1) of Title XX requires each grantee to expend at least one percent but not more than five percent of the Federal funds received under Title XX on evaluation of the project. Waivers above the five percent limit on evaluation may be granted in cases where a more rigorous or comprehensive evaluation effort is proposed (see sec. 2006(b)(1)). As this is a demonstration program, all applications are required to have an evaluation component of high quality consistent with the scope of the proposed project and the funding

Section 2006(b)(2) of Title XX requires that the evaluations be conducted by an organization or entity independent of the grantee providing services. To assist in conducting the evaluations, each grantee shall develop a working relationship with a college or university located in the grantee's state which will assist in providing monitoring and evaluation of the proposed program. The OAPP strongly recommends extensive collaboration between the applicant organization and the proposed evaluator in the development of the program goals and objectives of the intervention, identification of the variables to be measured, a clear and organized timetable for initiation of the intervention, baseline measurement, and ongoing evaluation data collection and analysis strategies. Additionally, it is also important to establish this collaborative relationship between the applicant organization and the proposed evaluator early to ensure that the project's proposed goals and objectives and the evaluation are in full alignment with each other. The proposed evaluator should be included in program planning meetings to ensure that there is uniformity in the intended outcomes of the program.

Application Requirements

Applications must be submitted on the forms supplied (PHS 516 1-1, Revised 6/99) complete in the manner prescribed in the application kits provided by the OAPP. Incomplete applications will be returned to the applicant. Applicants are required to submit an application signed by an individual authorized to act for the applicant agency or organization and to assume for the organization the obligations imposed by the terms and conditions of an application signed by an individual authorized to act for the applicant agency or organization and to assume for the organization the obligations imposed by the terms and conditions of the grant award.

Applicants must be familiar with Title XX in its entirety to ensure that they have complied with all applicable requirements. A copy of the legislation is included in the application kit.

Additional Requirements

Applicants for grants must also meet both of the following requirements (each year):

(1) Requirements for Review of an Application by the Governor. Section 2006(e) of Title XX requires that each applicant shall provide the Governor of the State in which the applicant is located a copy of each application submitted to OAPP for a grant for a demonstration project for services under this Title. The Governor has 60 days from the receipt date in which to provide comments to the applicant.

An applicant may comply with this requirement by submitting a copy of the application to the Governor of the State in which the applicant is located at the same time the application is submitted to OAPP. To inform the Governor's office of the reason for the submission, a copy of this notice should be attached to the application.

(2) Requirements for Review of an Application Pursuant to Executive Order 12372 (SPOC) Requirements). Applicants under this announcement are subject to the review requirements of E.O. 12372, “Intergovernmental Review of Federal Programs,” as implemented by 45 CFR part 100, “Intergovernmental Review of Department of Health and Human Services and Activities.” E.O. 12372 sets up a system for state and local government review of proposed Federal assistance applications. As soon as possible, the applicant (other than Federally-recognized Indian tribal governments) should contact the State Single Point of Contact (SPOC) for each state in the area to be served. The application kit contains the currently available listing of the SPOCs which have elected to be informed of the submission of applications. For those states not represented on the listing, further inquiries should be made by the applicant regarding submission to the relevant SPOC. The SPOC's comment(s) should be forwarded to the Grants Management Office, Office of Population Affairs, 4350 East-West Highway, Suite 200, Bethesda, MD 20814. The SPOC has 60 days from the closing date of this announcement to submit any comments.

Application Consideration and Assessment

Applications which are judged to be late, incomplete or which do not conform to the requirements of this program announcement will not be accepted for review. Applicants will be so notified, and the application will be returned. All other applications will be reviewed by a multi-disciplinary panel of independent reviewers and assessed according to the following criteria:

(1) The capacity of the proposed applicant organization to provide rapid and effective use of resources needed to conduct the project, collect data and evaluate it. This includes personnel, time and facilities. (30 points)

(2) The applicant's rationale for use of the proposed approach and its worth for testing and/or replication based upon its previous demonstration, review of the literature and/or evaluation findings. (20 points)

(3) The applicant's presentation of an appropriate project design, consistent with the requirements of Title XX, including a clear statement of goals and objectives, reasonable methods for achieving the objectives, a reasonable workplan and timetable and a clear statement of results or benefits expected. (30 points)

(4) The applicant's presentation of a detailed evaluation plan, indicating an understanding of program evaluation methods and reflecting a practical, technically sound approach to assessing the project's achievement of program objectives. (20 points)

Final grant award decisions will be made by the Deputy Assistant Secretary for Population Affairs In making these decisions, the Deputy Assistant Secretary for Population Affairs will take into account the extent to which grants recommended for approval will provide an appropriate geographic distribution of resources, the priorities in sec. 2005(a), and the other factors in sec. 2005, including consideration of:

(1) The applicant's capacity to administer funds responsibly;

(2) The incidence of adolescent pregnancy and the availability of services in the geographic area to be served;

(3) The population to be served;

(4) Youth and community commitment to and involvement in planning and implementation of the demonstration project;

(5) The organizational model(s) for delivery of service;

(6) The usefulness for policymakers and service providers of the proposed project and its potential for complementing existing adolescent health models;

(7) The reasonableness of the estimated cost to the government considering the anticipated results.

OAPP does not release information about individual applications during the review process until final funding decisions have been made. When these decisions have been made, applicants will be notified by letter of the outcome of their applications. The official document notifying an applicant that an application has been approved for funding is the Notice of Grant Award, which specifies to the grantee the amount of money awarded, the purpose of the grant, the terms and conditions of the grant award, and the amount of funding to be contributed by the grantee to project costs.

Dated: April 7, 2000.
Denese O. Shervington,
Deputy Assistant Secretary for Population Affairs.

[FR Doc. 00-9148 Filed 4-12-00; 8:45 am]

BILLING CODE 4160-17-M